FEDERAL COMMUNICATIONS COMMISSION

[DA 24-1235; FR ID 267996]

In the Matter of 2,411 Robocall Mitigation Database Filers

AGENCY: Federal Communications Commission.

ACTION: Notice of Order.

SUMMARY: On December 10, 2024, the Enforcement Bureau (Bureau) released an Order directing the 2,411 companies named in Appendix A to the Order (each, a Company; collectively, the Companies) to cure the deficiencies in each Company's Robocall Mitigation Database (RMD) certification and notify the Bureau that the deficiencies have been cured, or to file a response explaining why the Bureau should not remove the Company's certification from the RMD. Each Company's RMD certification is deficient because a robocall mitigation plan was not provided or the plan lacks newly-required information; and the certification lacks newly-required information. Removal of a Company's certification from the RMD would require all intermediate providers and voice service providers to cease accepting all calls directly from the Company.

DATES: Responses are due no later than December 31, 2024.

ADDRESSES: The responses must be mailed to the Office of the Secretary, Federal Communications Commission, 45 L Street NE, Washington, DC 20554, ATTN: Enforcement Bureau—Telecommunications Consumers Division. The responses must also be emailed to EnforcementBureauTCD@fcc.gov.

FOR FURTHER INFORMATION CONTACT: Kristi Thompson, Federal Communications Commission, Enforcement Bureau, Telecommunications Consumers Division, 45 L Street NE, Washington, DC 20554 or at kristi.thompson@fcc.gov, 202-418-1318.

SUPPLEMENTARY INFORMATION: The Bureau adopted the Order pursuant to sections 4(i), 4(j), 227b, 251(e), and 403 of the Communications Act of 1934, as amended, 47 U.S.C. 154(i), 154(j), 227b, 251(e), and 403, and §§ 0.111, 0.311, 1.1, and 64.6305 of the Commission's rules, 47 CFR 0.111, 0.311, 1.1, and 64.6305. The Order is available here: https://docs.fcc.gov/public/attachments/DA-24-1235A1.pdf.

Federal Communications Commission.
Peter S. Hyun,
Acting Chief, Enforcement Bureau.

[FR Doc. 2024-29800 Filed 12-16-24; 8:45 am]

BILLING CODE 6712-01-P